DEPARTMENT OF TRANSPORTATION

Federal Aviation Administration

RTCA Special Committee 202: Portable Electronic Devices

AGENCY: Federal Aviation Administration (FAA), DOT.

ACTION: Notice of RTCA Special Committee 202 Meeting: Portable Electronic Devices.

SUMMARY: The FAA is issuing this notice to advise the public of a meeting of RTCA Special Committee 202: Portable Electronic Devices.

DATES: The meeting will be held on October 16-20, 2006, from 9 a.m. to 4:30 p.m.

ADDRESSES: The meeting will be held at Conference Rooms, 1828 L Street, NW., Suite 805, Washington, DC.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 202 Portable Electronic Devices meeting. The agenda will include:

• October 16:

• Co-chairs' Strategy Sessions with Working Group Leaders.

• Working Group Progress and Status Update, Final Review and Comment (FRAC) Disposition Plan.

• Overall Review of Plan and Schedule for Phase 2.

• Working Groups Coordination.

• Time for all Working Groups to meet together if required.

• Working & Focus Groups Sessions.

• WG-1, PED Characterization—Garmin Room.

• WG-2, Aircraft Path Loss and Test, with WG-3, Aircraft Susceptibility—Colson Board Room.

• FCC Recommendations Focus Group—ARINC Conference Room.

• Picocell Focus Group—MacIntosh-NBAA Hilton/ATA Room.

• Ad-hoc Working Group 4, Process and Overall Document—Small Conference Room.

• Chairmen's Strategy Session with Working Group Leaders.

• Coordinate Recommendations to Plenary: FRAC Comment Dispositions, TOR Compliance Verification, and Publication of Final Update to DO-294.

• October 17:

• Opening Plenary Session (Welcome and Introductory Remarks, Review Agenda, Review/Approve previous Common Plenary Summary).

• Update from Regulatory Agencies (FAA, UK-CAA, Canadian TSB, FCC, or other).

• Update on Work of EUROCAE Working Group WG58 by Michel Crokaert of Airbus, WG58 Chairman.

• CEA PEDs Working Group Report and Plans for ANSI Accredited Standard by Doug Johnson of CEA.

• Update on CTIA Task Force on Cell Phones on Airborne Aircraft by Paul Guckian of QUALCOMM.

• PED Emission Statistics and IPL Target Calculations for Airplane Design and Certification Guidance.

• Break-out Sessions for Working Groups and Focus Groups on Phase 2 work—FRAC Comment Dispositions, DO-294 Final Update Recommendations, Status of Draft DO-YY Design and Certification Guidance Document, Remaining Work, Open Issues or Coordination Requirements.

• Working Groups (WG) 1 through 5 meet.

• WG-1, T-PED Characterization.

• WG-2, Aircraft Path Loss and Test, with WG-3, Aircraft Susceptibility.

• WG-4, Risk Assessment, Mitigation, and Process.

• WG-5, Airplane Design and Certification Guidance.

• FCC Recommendations Focus Group.

• Picocell Focus Group.

• Reference Data in Appendix CD for Phase 2 Document.

• Committee Consensus on Remaining Phase 2 Work Plan. TOR Compliance Plan, and Schedule for Completion.

• October 18:

• Co-chairs' Strategy Session with Working Group Leaders.

• WG Progress and Plan for Completion of FRAC Comment Dispositions, Preparation of Recommendation to Publish Final Update DO-294, Initial Draft DO-YYY.

• Working Groups Coordination.

• Time for all Working Groups to meet, if required.

• Working Groups Sessions.

• WG-1 PEDs Characterization.

• WG-2 Aircraft Path Loss and Test with WG-3, Aircraft Susceptibility.

• WG-4 Risk Assessment, Mitigation, and Process.

• WG-5 Airplane Design and Certification Guidance.

• Focus Groups Sessions.

• FCC Recommendations Focus Group.

• Picocell Focus Group.

• Chairmen's Strategy Session with Working Group Leaders.

• Readiness for Recommendations to Plenary, Plan for Completion of Documents.

• October 19:

• Chairmen's Day 2 Opening Remarks and Process Check.

• Working Groups report out.

• Each Working Group will cover the following:

• FRAC Comment Disposition Status.

• TOR Compliance Assessment.

• Plan for Closure of any Open Issues.

• Recommendations to Support to Plenary consensus on Recommendation to Publish DO-294B.

• Phase 2 Work Remaining: Work plan and schedule for completion of DO-YYY.

• Working Group 1 (PEDs Characterization, Test and Evaluation).

• FCC Recommendations Focus Group.

• Working Group 2 (Aircraft Test and Analysis).

• Working Group 3 (Aircraft Systems Susceptibility).

• Picocell Focus Group.

• Overall document Structure and Process (Ad-hoc Working Group 4).

• Working Group 5 (Recommended Guidance for Airplane Design and Certification).

• Plenary Consensus on Recommendation to Publish Final Update DO-294

• Working Groups' teleconference and meeting schedule, plan for Phase 2 work completion.

• Closing Session (Other Business, Date and Place of Upcoming Meetings—December 5-7, 2006 Seventeenth Plenary at RTCA; January 23-25, 2007 Eighteenth Plenary at RTCA; April 17-19, 2007 Nineteenth Plenary at RTCA—Closing Remarks, Adjourn).

• Break-out sessions for Working Groups Phase 2 work if required and time permits.

• October 20:

• Working Groups and Focus Groups complete action items and prepare and format document for Final Review And Comment (FRAC), as required.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 12, 2006.
Francisco Estrada C.,
RTCA Advisory Committee.

[FR Doc. 06-7829 Filed 9-20-06; 8:45 am]

BILLING CODE 4910-13-M